DEPARTMENT OF TRANSPORTATION

Federal Aviation Administration

Notice of Intent To Rule on Request To Release Airport Property at Walnut Ridge Regional Airport, Walnut Ridge, Arkansas

AGENCY: Federal Aviation Administration (FAA), DOT.

ACTION: Notice of request to release airport property.

SUMMARY: The FAA proposes to rule and invites public comment on the release of land at Walnut Ridge Regional Airport under the provisions of Section 125 of the Wendell H. Ford Aviation Investment Reform Act for the 21st Century (AIR 21).

DATES: Comments must be received on or before June 9, 2017.

ADDRESSES: Comments on this application may be mailed or delivered to the FAA at the following address: Mr. Glenn A. Boles, Manager, Federal Aviation Administration, Southwest Region, Airports Division, AR/OK Airports Development Office, ASW-630, Fort Worth, Texas 76137.

In addition, one copy of any comments submitted to the FAA must be mailed or delivered to The Honorable Charles Snapp, Mayor of Walnut Ridge at the following address: City of Walnut Ridge, Arkansas, 300 West Main Street, Walnut Ridge, AR 72476.

FOR FURTHER INFORMATION CONTACT: Mr. Paul Burns, Program Manager, Federal Aviation Administration, AR/OK Airports Development Office, ASW-630, 10101 Hillwood Parkway, Fort Worth, Texas 76177.

The request to release property may be reviewed in person at this same location.

SUPPLEMENTARY INFORMATION: The FAA invites public comment on the request to release property at the Walnut Ridge Regional Airport under the provisions of the AIR 21.

On May 3, 2017, the FAA determined that the request to release property at Walnut Ridge Regional Airport submitted by the City of Walnut Ridge met the procedural requirements of the Federal aviation Regulations, Part 155. The FAA may approve the request, in whole or in part, no later than June 19, 2017.

The following is a brief overview of the request: The City of Walnut Ridge requests the release of 15.12 acres of airport property valued at $90,000.00. The release of property will allow for the sale of the property to Custom-Pak, Inc. for the expansion of an existing industrial facility adjacent to the airport. The City of Walnut Ridge will use the $90,000.00 resulting from the sale of the 15.12 acres to fund the construction of Jet-A and AvGas fuel farm, the rehabilitation of runways and taxiway, and the rehabilitation of existing hangars and existing buildings on the airport.

Any person may inspect the request in person at the FAA office listed above under FOR FURTHER INFORMATION CONTACT.

In addition, any person may, upon request, inspect the application, notice and other documents germane to the application in person at the Walnut Ridge Regional Airport.

Issued in Fort Worth, Texas, on May 3, 2017.
Ignacio Flores,
Director, Airports Division.

[FR Doc. 2017-09460 Filed 5-9-17; 8:45 am]

BILLING CODE 4910-13-P